DEPARTMENT OF ENERGY

Federal Energy Regulatory Commission

[Project No. 10254-026]

Pelzer Hydro Company, LLC; Consolidated Hydro Southeast, LLC; Notice of Application Tendered for Filing With the Commission and Soliciting Additional Study Requests and Establishing Procedural Schedule for Relicensing and a Deadline for Submission of Final Amendments

Take notice that the following hydroelectric application has been filed with the Commission and is available for public inspection.

a. Type of Application: Minor New License.

b. Project No.: P-10254-026.

c. Date filed: November 30, 2015.

d. Applicant: Pelzer Hydro Company, LLC and Consolidated Hydro Southeast, LLC.

e. Name of Project: Upper Pelzer Hydroelectric Project.

f. Location: On the Saluda River, in Anderson and Greenville Counties, South Carolina. The project does not occupy lands of the United States.

g. Filed Pursuant to: Federal Power Act 16 U.S.C. 791(a)-825(r).

h. Applicant Contact: Beth E. Harris, P.E., Regional Operations Manager, Enel Green Power North America, Inc., 11 Anderson St., Piedmont, SC 29674; (864) 846-0042; Beth.Harris@Enel.com.

i. FERC Contact: Sean Murphy, (202) 502-6145 or sean.murphy@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 29, 2016.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-10254-026.

m. The application is not ready for environmental analysis at this time.

n. The Upper Pelzer Hydroelectric Project consists of: (a) A granite masonry dam composed of a 150-foot-long non-overflow section, a 280-foot-long overflow spillway section surmounted by 4-foot-high flashboards, and a 75-foot-long gated intake section; (b) a reservoir with a surface area of 25 acres and a storage capacity of 200 acre-feet at water surface elevation 718.7 feet msl; (c) a 260-foot-long by 50-foot-wide forebay; (d) a concrete powerhouse containing two generating units rated at 750 kW each for a total of 1,500 kW; (e) a mill building containing one generating unit rated at 450 kW; (f) a tailrace extending from the powerhouse and a tailrace extending from the mill building; (g) 3.3-kV generator leads; and (h) appurtenant facilities.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Notice of Acceptance | August 2016.
Issue Scoping Document 1 for comments | October 2016.
Comments on Scoping Document 1due | December 2016.
Issue Scoping Document 2 | February 2017.
Issue notice of ready for environmental analysis | March 2017.
Commission issues EA | October 2017.
Comments on EA due | November 2017.
Commission issues final EA | January 2018.

Final amendments to the application must be filed with the Commission no later than 30 days from the issuance date of the notice of ready for environmental analysis.

Dated: December 22, 2015.
Nathaniel J. Davis, Sr.,
Deputy Secretary.

[FR Doc. 2015-32698 Filed 12-28-15; 8:45 am]

BILLING CODE 6717-01-P